DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 11 eligible grant recipients funded in FY 2017, under the Addiction Technology Transfer Centers (ATTC) Cooperative Agreements, Notice of Funding Opportunity (NOFO) TI-17-005. Recipients may receive up to $743,757 each, for a total of $8,181,327. These recipients have a current project end date of September 29, 2023. The supplemental funding will extend the project period by one-year and will continue training and technical assistance for providers who are serving patients with substance use disorder by improving their capacity and understanding of evidence-based practices, especially practices that are effective in combating substance misuse, including the opioid crisis.

FOR FURTHER INFORMATION CONTACT: Twyla Adams, Senior Public Health Advisor, Substance Abuse and Mental Health Services Administration, 5600 Fishers Lane, Rockville, MD 20857, telephone: 240-2761576; email: Twyla.Adams@samhsa.hhs.gov.

SUPPLEMENTARY INFORMATION:

Funding Opportunity Title: FY 2017 Addiction Technology Transfer Centers Cooperative Agreements NOFO TI-17-005.

Assistance Listing Number: 93.243.

Authority: Section 509 of the Public Health Service Act, as amended.

Justification: Eligibility for this supplemental funding is limited to the 10 ATTC Regional Centers and ATTC National Coordinating Office funded in FY 2017, under the ATTC Cooperative Agreements funding announcement TI-17-005, as they are currently providing nationally- and regionally-focused treatment and recovery training activities, which will continue to be funded through this supplement.

This is not a formal request for application. Assistance will only be provided to the 10 ATTC Regional Centers and ATTC National Coordinating Office recipients based on the receipt of a satisfactory application and associated budget that is approved by a review group.

Dated: March 31, 2023.
Carlos Castillo,
ECSB Acting Branch Chief, SAMHSA.

[FR Doc. 2023-07131 Filed 4-5-23; 8:45 am]

BILLING CODE 4162-20-P